DEPARTMENT OF COMMERCE

National Oceanic and Atmospheric Administration

50 CFR Part 660

RIN 0648-BN08

Magnuson-Stevens Act Provisions; Fisheries Off West Coast States; Pacific Coast Groundfish Fishery; Pacific Coast Groundfish Fishery Management Plan; Amendment 33; 2025-26 Biennial Specifications and Management Measures

AGENCY: National Marine Fisheries Service (NMFS), National Oceanic and Atmospheric Administration (NOAA), Commerce.

ACTION: Announcement of availability of proposed fishery management plan amendment; request for comments.

SUMMARY: NMFS announces that the Pacific Fishery Management Council submitted amendment 33 to the Pacific Coast Groundfish Fishery Management Plan to the Secretary of Commerce for review. If approved, amendment 33 would implement a rebuilding plan for California quillback rockfish and modify the allocation framework for shortspine thornyhead. Amendment 33 is necessary to rebuild overfished stocks, achieve optimum yield, and ensure management measures are based on the best scientific information available. It is intended to promote the goals and objectives of the Pacific Coast Groundfish Fishery Management Plan.

DATES: Comments on amendment 33 must be received on or before October 1, 2024.

ADDRESSES: You may submit comments on this document, identified by NOAA-NMFS-2024-0065, by the following method:

• Electronic Submission: Submit all electronic public comments via the Federal e-Rulemaking Portal. Go to https://www.regulations.gov and enter NOAA-NMFS-2024-0065, in the Search box. Click on the “Comment” icon, complete the required fields, and enter or attach your comments.

Instructions: Comments must be submitted by the above method to ensure that the comments are received, documented, and considered by NMFS. Comments sent by any other method, to any other address or individual, or received after the end of the comment period, may not be considered. All comments received are a part of the public record and NMFS will post for public viewing on https://www.regulations.gov without change. All personal identifying information (e.g., name, address, etc.), confidential business information, or otherwise sensitive information submitted voluntarily by the sender is publicly accessible. NMFS will accept anonymous comments (enter “N/A” in the required fields if you wish to remain anonymous).

Electronic Access

This notification of availability is accessible via the internet at the Office of the Federal Register website at https://www.federalregister.gov/. Information relevant to amendment 33, which includes a draft Environmental Assessment, a regulatory impact review, a Regulatory Flexibility Act certification, and a Magnuson Stevens Fishery Conservation and Management Act (Magnuson-Stevens Act) analysis (collectively termed the “Analysis”), are accessible via the internet at the NMFS West Coast Region website at: https://www.fisheries.noaa.gov/west-coast/laws-and-policies/west-coast-region-national-environmental-policy-act-documents.

FOR FURTHER INFORMATION CONTACT: Lynn Massey, phone, or email: 562-900-2060, Lynn.Massey@noaa.gov.

SUPPLEMENTARY INFORMATION: NMFS manages the groundfish fisheries in the exclusive economic zone (EEZ) seaward of Washington, Oregon, and California under the Pacific Coast Groundfish fishery management plan (PCGFMP). The Pacific Fishery Management Council (Council) prepared, and NMFS implemented the PCGFMP under the authority of the Magnuson-Stevens Act, 16 U.S.C. 1801 et seq. and by regulations at 50 CFR parts 600 and 660. The Magnuson-Stevens Act requires that each regional fishery management council submit any FMP or plan amendment it prepares to NMFS for review and approval, disapproval, or partial approval by the Secretary of Commerce. The Magnuson-Stevens Act also requires that NMFS, upon receiving an FMP or amendment, immediately publish a notice that the FMP or amendment is available for public review and comment. This notification announces that the proposed amendment 33 to the PCGFMP is available for public review and comment. NMFS will consider the public comments received during the comment period described above in determining whether to approve, partially approve, or disapprove amendment 33 to the PCGFMP.

Background

Every 2 years, the Council recommends harvest specifications and management measures to NMFS for most of the stocks and management units that are managed via the PCGFMP. Most of these harvest specifications and management measures can be implemented by amending the regulations published in the Code of Federal Regulations, however, in some cases, these changes necessitate amending the PCGFMP. Amendment 33 constitutes the portion of the 2025-26 groundfish harvest specifications and management measures action that necessitates a change to the PCGFMP. Specifically, amendment 33 would: (1) implement a rebuilding plan for California quillback rockfish, and (2) amend the allocation framework for shortspine thornyhead. The rest of 2025-26 groundfish harvest specifications and management measures will be described in a forthcoming proposed rule that will publish in the near future.

Rebuilding Plan for California Quillback Rockfish

The Council recommended, and NMFS is proposing, the implementation of a rebuilding plan for California quillback rockfish. NMFS declared California quillback rockfish overfished in December 2023, in response to a data moderate assessment conducted by the Northwest Fisheries Science Center (NWFSC) in 2021 (Agenda Item E.2, Attachment 4, November 2021). When NMFS declares a stock overfished, the Council must develop and manage the stock in accordance with a rebuilding plan (Magnuson-Stevens Act at section 304(e)(3)), which must include certain rebuilding parameters, including Tmin, Tmax, and Ttarget. Tmin means the amount of time the stock or stock complex would be expected to take to rebuild to its maximum sustainable yield (MSY) biomass level in the absence of any fishing mortality (50 CFR 600.310(j)(3)(i)(A)). Tmax means the maximum time allowable for rebuilding a stock or stock complex to its MSY biomass. If Tmin for the stock or stock complex is 10 years or less, then Tmax is automatically 10 years. If Tmin for the stock or stock complex exceeds 10 years, then Tmax must be calculated as Tmin plus the length of time associated with one generation time for that stock or stock complex. “Generation time” is the average length of time between when an individual is born and the birth of its offspring. Ttarget means the specified time period for rebuilding a stock that is considered to be as short a time as possible, taking into account the status and biology of the overfished stock, the needs of fishing communities, recommendations by international organizations in which the U.S. participates, and the interaction of the stock within the marine ecosystem (50 CFR 600.310(j)(3)(i)). In March 2024, the Council adopted the California quillback rockfish rebuilding analysis (Agenda Item F.2 Attachment 1 March 2024), which specified the following rebuilding parameters: Tmin = 2045, Tmax = 2071, and mean generation time of 26 years.

The Council prepared a Rebuilding Plan Analysis, which describes the four rebuilding strategies considered for California quillback rockfish (Agenda Item F.6 Supplemental Revised Attachment 3 June 2024). The Council recommended Alternative 2 (the “acceptable biological catch (ABC) rule” rebuilding strategy) as its final preferred alternative for California quillback rockfish rebuilding. This rebuilding strategy includes a harvest control rule that sets the annual catch limit (ACL) equal to the ABC, with a management risk tolerance of P* = 0.45 and the scientific uncertainty (time-varying sigma) reduction applied to the overfishing limit (OFL). This rebuilding strategy identifies Ttarget as 2060. As shown in the Rebuilding Plan Analysis, Alternative 2 is projected to rebuild the stock by 2060 with 73.6 percent probability of rebuilding by 2071 (Tmax). Accordingly, the final preferred rebuilding strategy is anticipated to rebuild the stock within the Magnuson-Stevens Act mandated timeframe, while still providing a limited amount of fishing opportunity, and thus rebuilding in as short a time as possible while taking into account the status and biology of the overfished stock and the needs of fishing communities. A proposed rule to implement amendment 33 will soon be published alongside an updated Rebuilding Plan Analysis that reflects the Council's final preferred rebuilding strategy.

Chapter 4 of the PCGFMP describes the Council's rebuilding policies. The proposed revision would add a new section to this chapter (section 4.6.3.7) describing the rebuilding plan for California quillback rockfish, including the rebuilding parameters described above. This section would also describe the existing rebuilding plan for yelloweye rockfish. In prior PCFFMP documents, the rebuilding species section has been included as appendix F, which describes the history of the Council's rebuilding plans. With the exception of yelloweye rockfish, all stocks described in appendix F have rebuilt. Therefore, the Council and NMFS propose removing appendix F from the PCGFMP and adding that information to the Stock Assessment and Fishery Evaluation (SAFE) document to preserve the historical rebuilding plan information. This amendment would only keep extant rebuilding plans in the PCGFMP.

Change to the Allocation Framework for Shortspine Thornyhead

The Council recommended, and NMFS is proposing, modifying the allocation framework for shortspine thornyhead. Shortspine thornyhead's allocation structure was established via amendment 21 to the PCGFMP (see https://www.pcouncil.org). It has a coastwide OFL and ABC, and two area-specific ACLs and fishery harvest guidelines (HGs) for north and south of 34°27′ north latitude (N lat.). The existing ACL apportionment method is based on the available data (2003-2012) from the NWFSC West Coast Bottom Trawl survey, at the time of the previous assessment conducted in 2013. This has resulted in approximately 70 percent of the estimated biomass being apportioned to the ACL north of 34°27′ N lat. for the past 5 years (Agenda Item E.5.a, Supplemental GMT Report 1, November 2023). For north of 34°27′ N lat., the trawl sector has been allocated 95 percent of the HG and the non-trawl sector allocated 5 percent of the HG. For south of 34°27′ N lat., the trawl sector has been allocated a fixed 50 metric tons of the HG, with the non-trawl sector receiving the remainder of the HG.

As a result of the 2023 shortspine thornyhead stock assessment (Agenda Item G.2 Attachment 4 September 2023), which indicates that the stock will be in the precautionary zone, shortspine thornyhead ACLs in the 2025-26 biennium are expected to be constraining for both the trawl and non-trawl sectors in the area north of 34°27′ N lat. For the trawl sector, under the existing allocation framework, there would be substantial individual fishing quota reductions. For the non-trawl sector, trip limits for the limited entry fixed gear fishery would have to be so low that a targeted fishery is unlikely to be prosecuted. Shortspine thornyhead has been chronically under-attained in the area south of 34°27′ N lat.; therefore, combining the trawl and non-trawl allocations into coastwide allocations would allow for more flexible use of that allocation in issuing trawl quota and setting non-trawl trip limits. To achieve this, the Council and NMFS would set a coastwide ACL and HG (as opposed to two area-specific ACLs and HGs) for 2025 and beyond. Additionally, the Council recommended, and NMFS is proposing, to shift the trawl/non-trawl allocation of shortspine thornyhead from an allocation specified in the PCGFMP to a 2-year allocation, specified in regulation.

Chapter 6 of the PCGFMP describes routine management measures used to manage Pacific Coast groundfish fisheries, including allocations. Further, table 1 of section 6.3.2.3 describes formal allocations established via amendment 21. The Council recommended and NMFS is proposing to remove the allocation amounts for shortspine thornyhead north and south of 34°27′ N lat. from table 1. This change would effectively remove the management line at 34°27′ N lat., allowing the Council and NMFS to set a coastwide ACL and HG. This change is anticipated to provide needed fishing opportunity for limited entry fishermen north of 34°27′ N lat., while still preserving fishing opportunity for fishermen south of 34°27′ N lat., as well prevent overfishing.

Public Comment

NMFS welcomes comments on the proposed PCGFMP amendment through the end of the comment period. A proposed rule to implement amendment 33 has been submitted for Secretarial review and approval. NMFS expects to publish and request public review and comment on proposed regulations to implement amendment 33 in the near future. For public comments on the proposed rule to be considered in the approval or disapproval decision on amendment 33, those comments must be received by the end of the comment period on the amendment. All comments received by the end of the comment period for the amendment, whether specifically directed to the amendment or the proposed rule, will be considered in the approval/disapproval decision.

Authority: 16 U.S.C. 1801 et seq.

Dated: July 29, 2024.
Lindsay Fullenkamp,
Acting Director, Office of Sustainable Fisheries, National Marine Fisheries Service.

[FR Doc. 2024-17067 Filed 8-1-24; 8:45 am]

BILLING CODE 3510-22-P